COMMISSION ON CIVIL RIGHTS

Notice of Public Meeting of the New York Advisory Committee; Correction

AGENCY: U.S. Commission on Civil Rights.

ACTION: Notice; correction to meeting purpose, time, and access information.

SUMMARY: The Commission on Civil Rights published a notice in the Federal Register of Thursday, June 4, 2021, concerning a meeting of the New York Advisory Committee. The document contained an incorrect purpose, meeting time, and access information.

FOR FURTHER INFORMATION CONTACT: Mallory Trachtenberg at mtrachtenberg@usccr.gov or (202) 809-9618.

Correction: In the Federal Register of Thursday, June 4, 2021, in FR Doc. 2021-11713, on pages 29997-29998, correct the purpose, time, web-link and dial-in information to read: The purpose of the meeting is to hear testimony and debrief the Committee's briefings on potential racial discrimination in eviction policies and enforcement in New York. When: Friday, July 16, 2021, from 1:00 p.m.-3:00 p.m. EST at web conference link: https://bit.ly/3j4f7J8 password is USCCR; to join by phone only, dial: 1-800-360-9505; Access code: 199 338 2002.

Dated: June 22, 2021.
David Mussatt,
Supervisory Chief, Regional Programs Unit.

[FR Doc. 2021-13650 Filed 6-25-21; 8:45 am]

BILLING CODE P